DEPARTMENT OF STATE

[Public Notice 4955]

Bureau of Oceans and International Environmental and Scientific Affairs; Certifications Pursuant to Section 609 of Public Law 101-162

SUMMARY: On December 21, 2004, the Department of State certified, pursuant to Section 609 of Public Law 101-162 (“Section 609”), that Venezuela has adopted a program to reduce the incidental capture of sea turtles in its shrimp fisheries comparable to the program in effect in the United States. On December 21, 2004, the Department of State withdrew certification for Trinidad and Tobago and for Panama pursuant to Section 609 because neither country's program for protecting sea turtles in its shrimp fisheries is determined to be comparable to the program in effect in the United States.

EFFECTIVE DATE: January 12, 2005.

FOR FURTHER INFORMATION CONTACT: James Story, Office of Marine Conservation, Bureau of Oceans and International Environmental and Scientific Affairs, Department of State, Washington, DC 20520-7818; telephone: (202) 647-2335.

SUPPLEMENTARY INFORMATION: Section 609 of Public Law 101-162 prohibits imports of certain categories of shrimp unless the President certifies to the Congress not later than May 1 of each year either: (1) That the harvesting nation has adopted a program governing the incidental capture of sea turtles in its commercial shrimp fishery comparable to the program in effect in the United States and has an incidental take rate comparable to that of the United States; or (2) that the fishing environment in the harvesting nation does not pose a threat of the incidental taking of sea turtles. The President has delegated the authority to make this certification to the Department of State. Revised State Department guidelines for making the required certifications were published in the Federal Register on July 2, 1999 (Vol. 64, No. 130, Public Notice 3086).

On December 21, 2004, the Department certified Venezuela on the basis that its sea turtle protection program is comparable to that of the United States. This country joins 14 others certified by the Department in 2004 on the same basis. On December 21, 2004, the Department withdrew certification for Trinidad and Tobago and for Panama because the sea turtle protection program in place for commercial shrimp trawl fisheries in these nations is not comparable in effectiveness to that of the United States.

The Department of State has communicated the certification of Venezuela under Section 609, and the withdrawal of certification for Panama and Trinidad and Tobago, to the Office of Trade Program of Customs and Border Protection, as well as to the governments of the affected nations.

Dated: January 5, 2005.
David A Balton,
Deputy Assistant Secretary for Oceans and Fisheries, Department of State.

[FR Doc. 05-627 Filed 1-11-05; 8:45 am]

BILLING CODE 4710-09-P